DEPARTMENT OF THE INTERIOR

Bureau of Indian Affairs

[201A2100DD/AAKC001030/A0A501010.999900 253G]

Rate Adjustments for Indian Irrigation Projects

AGENCY: Bureau of Indian Affairs, Interior.

ACTION: Notice.

SUMMARY: The Bureau of Indian Affairs (BIA) owns or has an interest in irrigation projects located on or associated with various Indian reservations throughout the United States. We are required to establish irrigation assessment rates to recover the costs to administer, operate, maintain, and rehabilitate these projects. We are notifying you that we have adjusted the irrigation assessment rates at several of our irrigation projects and facilities to reflect current costs of administration, operation, maintenance, and rehabilitation.

DATES: The irrigation assessment rates are current as of January 1, 2020.

FOR FURTHER INFORMATION CONTACT: For details about a particular BIA irrigation project or facility, please use the tables in the SUPPLEMENTARY INFORMATION section to identify contacts at the regional or local office at which the project or facility is located.

SUPPLEMENTARY INFORMATION: A Notice of Proposed Rate Adjustment was published in the Federal Register on February 25, 2020 (85 FR 10715) to propose adjustments to the irrigation assessment rates at several BIA irrigation projects. The public and interested parties were provided an opportunity to submit written comments during the 60-day period that ended April 27, 2020.

Did BIA defer or change any proposed rate increases?

Yes. The 2021 Operation and Maintenance (O&M) rate for San Carlos Irrigation Project—Indian Works of $104.00 per acre will not be implemented as originally proposed. A component of the San Carlos Irrigation Project—Indian Works rate is established by the San Carlos Irrigation Project Joint Control Board (comprised of representatives from the Gila River Indian Community and the San Carlos Irrigation and Drainage District), which is responsible for maintenance of the San Carlos Irrigation Project Joint Delivery Facilities. The Joint Control Board has changed its 2021 rate from $22.22 per acre to $16.00 per acre. The other two components of the San Carlos Irrigation Project—Indian Works rate (San Carlos Irrigation Project—Indian Works and San Carlos Irrigation Project—Joint Works) are established by BIA and will be implemented as proposed in the Federal Register. Because the Joint Control Board changed its rate component, this notice of rate adjustment reflects an equivalent change and a final 2021 O&M rate of $97.78 per acre for San Carlos Irrigation Project—Indian Works. All other rates are to be implemented at the respective irrigation projects as proposed.

Did BIA receive any comments on the proposed irrigation assessment rate adjustments?

No. BIA did not receive any comments on the proposed irrigation assessment rate adjustments.

Does this notice affect me?

This notice affects you if you own or lease land within the assessable acreage of one of our irrigation projects or if you have a carriage agreement with one of our irrigation projects.

Where can I get information on the regulatory and legal citations in this notice?

You can contact the appropriate office(s) stated in the tables for the irrigation project that serves you, or you can use the internet site for the Government Publishing Office at www.gpo.gov.

What authorizes you to issue this notice?

Our authority to issue this notice is vested in the Secretary of the Interior (Secretary) by 5 U.S.C. 301 and the Act of August 14, 1914 (38 Stat. 583; 25 U.S.C. 385). The Secretary has in turn delegated this authority to the Assistant Secretary—Indian Affairs under Part 209, Chapter 8.1A, of the Department of the Interior's Departmental Manual.

Whom can I contact for further information?

The following tables are the regional and project/agency contacts for our irrigation facilities.

Project name | Project/agency contacts
Northwest Region Contacts
Bryan Mercier, Regional Director, Bureau of Indian Affairs, Northwest Regional Office, 911 NE 11th Avenue, Portland, OR 97232-4169, Telephone: (503) 231-6702.
Flathead Indian Irrigation Project | Robert Compton, Acting Superintendent, Larry Nelson, Acting Irrigation Project Manager, P.O. Box 40, Pablo, MT 59855, Telephones: (406) 675-0207 Acting Superintendent, (406) 745-2661 Project Manager.
Fort Hall Irrigation Project | Tim Gardner, Acting Irrigation Project Manager, Building #2 Bannock Avenue, Fort Hall, ID 83203-0220, Telephone: (208) 238-1992.
Wapato Irrigation Project | Wyeth Wallace, Acting Superintendent, Pete Plant, Acting Project Administrator, 413 South Camas Avenue, Wapato, WA 98951-0220, Telephones: (509) 865-2421 Acting Superintendent, (509) 877-3155 Acting Project Administrator.
Rocky Mountain Region Contacts
Susan Messerly, Acting Regional Director, Bureau of Indian Affairs, Rocky Mountain Regional Office, 2021 4th Avenue North, Billings, MT 59101, Telephone: (406) 247-7943.
Blackfeet Irrigation Project | Thedis Crowe, Superintendent, Greg Tatsey, Irrigation Project Manager, Box 880, Browning, MT 59417, Telephones: (406) 338-7544 Superintendent, (406) 338-7519 Irrigation Project Manager.
Crow Irrigation Project | Clifford Serawop, Superintendent, Jim Gappa, Acting Irrigation Project Manager, (Project O&M performed by Water Users Association), P.O. Box 69, Crow Agency, MT 59022, Telephones: (406) 638-2672 Superintendent, (406) 247-7998 Acting Irrigation Project Manager.
Fort Belknap Irrigation Project | Mark Azure, Superintendent, Jim Gappa, Acting Irrigation Project Manager (BIA), (Project O&M contracted to Tribes under PL 93-638), R.R.1, Box 980, Harlem, MT 59526, Telephones: (406) 353-2901 Superintendent, (406) 353-8454 Irrigation Project Manager (Tribal Office).
Fort Peck Irrigation Project | Howard Beemer, Superintendent, Jim Gappa, Acting Irrigation Project Manager, (Project O&M performed by Fort Peck Water Users Association), P.O. Box 637, Poplar, MT 59255, Telephones: (406) 768-5312 Superintendent, (406) 653-1752 Huber Wright—Lead ISO.
Wind River Irrigation Project | Leslie Shakespeare, Superintendent, Jim Gappa, Acting Irrigation Project Manager, (Project O&M for Little Wind, Johnstown, and Lefthand Units contracted to Tribes under PL 93-638; Little Wind-Ray and Upper Wind Units O&M performed by Ray Canal, A Canal, and Crowheart Water Users Associations), P.O. Box 158, Fort Washakie, WY 82514, Telephones: (307) 332-7810 Superintendent, (406) 247-7998 Acting Irrigation Project Manager.
Southwest Region Contacts
Patricia L. Mattingly, Regional Director, Bureau of Indian Affairs, Southwest Regional Office, 1001 Indian School Road, Albuquerque, NM 87104, Telephone: (505) 563-3100.
Pine River Irrigation Project | Priscilla Bancroft, Superintendent, Vickie Begay, Irrigation Project Manager, P.O. Box 315, Ignacio, CO 81137-0315, Telephones: (970) 563-4511, Superintendent, (970) 563-9484, Irrigation Project Manager.
Western Region Contacts
Bryan Bowker, Regional Director, Bureau of Indian Affairs, Western Regional Office, 2600 North Central Avenue, 4th Floor Mailroom, Phoenix, AZ 85004, Telephone: (602) 379-6600.
Colorado River Irrigation Project | Davetta Ameelyenah, Superintendent, Gary Colvin, Irrigation Project Manager, 12124 1st Avenue, Parker, AZ 85344, Telephone: (928) 669-7111.
Duck Valley Irrigation Project | Joseph McDade, Superintendent, (Project O&M compacted to Tribes), 2719 Argent Avenue, Suite 4, Gateway Plaza, Elko, NV 89801, Telephone: (775) 738-5165, (208) 759-3100 (Tribal Office).
Yuma Project, Indian Unit | Denni Shields, Superintendent, 256 South Second Avenue, Suite D, Yuma, AZ 85364, Telephone: (928) 782-1202.
San Carlos Irrigation Project (Indian Works and Joint Works) | Ferris Begay, Project Manager, Kyle Varvel, Acting Supervisory Civil Engineer, 13805 North Arizona Boulevard, Coolidge, AZ 85128, Telephone: (520) 723-6225.
Uintah Irrigation Project | Antonio Pingree, Superintendent, Ken Asay, Irrigation System Manager, (Project O&M performed by Uintah Indian Irrigation Project Operation and Maintenance Company), P.O. Box 130, Fort Duchesne, UT 84026, Telephone: (435) 722-4300, (435) 722-4344.
Walker River Irrigation Project | Robert Eben, Superintendent, 311 East Washington Street, Carson City, NV 89701, Telephone: (775) 887-3500.

What irrigation assessments or charges are adjusted by this notice?

The rate table below contains final rates for the 2020 and 2021 calendar years for all irrigation projects where we recover costs of administering, operating, maintaining, and rehabilitating them. An asterisk immediately following the rate category notes the irrigation projects where 2020 rates are different from the 2021 rates.

Project name | Rate category | Final 2020 rate | Final 2021 rate
Northwest Region Rate Table
Flathead Irrigation Project | Basic per acre—A | $33.50 | $33.50
| Basic per acre—B | 16.75 | 16.75
| Minimum Charge per tract | 75.00 | 75.00
Fort Hall Irrigation Project | Basic per acre | 58.50 | 58.50
| Minimum Charge per tract | 39.00 | 39.00
Fort Hall Irrigation Project—Minor Units | Basic per acre | 38.00 | 38.00
| Minimum Charge per tract | 39.00 | 39.00
Fort Hall Irrigation Project—Michaud Unit | Basic per acre | 63.50 | 63.50
| Pressure per acre * | 98.50 | 99.50
| Minimum Charge per tract | 39.00 | 39.00
Wapato Irrigation Project—Toppenish/Simcoe Units | Minimum Charge per bill | 25.00 | 25.00
| Basic per acre | 25.00 | 25.00
Wapato Irrigation Project—Ahtanum Units | Minimum Charge per bill | 30.00 | 30.00
| Basic per acre | 30.00 | 30.00
Wapato Irrigation Project—Satus Unit | Minimum Charge per bill | 79.00 | 79.00
| “A” Basic per acre | 79.00 | 79.00
| “B” Basic per acre | 85.00 | 85.00
Wapato Irrigation Project—Additional Works | Minimum Charge per bill | 80.00 | 80.00
| Basic per acre | 80.00 | 80.00
Wapato Irrigation Project—Water Rental | Minimum Charge per bill | 86.00 | 86.00
| Basic per acre | 86.00 | 86.00
Rocky Mountain Region Rate Table
Blackfeet Irrigation Project | Basic per acre * | $20.00 | $20.50
Crow Irrigation Project—Willow Creek O&M (includes Agency, Lodge Grass #1, Lodge Grass #2, Reno, Upper Little Horn, and Forty Mile Units) | Basic per acre * | 28.00 | 28.50
Crow Irrigation Project—All Others (includes Bighorn, Soap Creek, and Pryor Units) | Basic per acre * | 28.00 | 28.50
Crow Irrigation Project—Two Leggins Unit | Basic per acre | 14.00 | 14.00
Crow Irrigation Two Leggins Drainage District | Basic per acre | 2.00 | 2.00
Fort Belknap Irrigation Project | Basic per acre | 17.00 | 17.00
Fort Peck Irrigation Project | Basic per acre | 27.00 | 27.00
Wind River Irrigation Project—Units 2, 3 and 4 | Basic per acre | 25.00 | 25.00
Wind River Irrigation Project—Unit 6 | Basic per acre | 22.00 | 22.00
Wind River Irrigation Project—LeClair District (See Note #1) | Basic per acre | 47.00 | 47.00
Wind River Irrigation Project—Crow Heart Unit | Basic per acre | 16.50 | 16.50
Wind River Irrigation Project—A Canal Unit | Basic per acre | 16.50 | 16.50
Wind River Irrigation Project—Riverton Valley Irrigation District (See Note #1) | Basic per acre | 30.65 | 30.65
Southwest Region Rate Table
Pine River Irrigation Project | Minimum Charge per tract | 50.00 | 50.00
| Basic per acre * | 21.50 | 22.00
Western Region Rate Table
Colorado River Irrigation Project | Basic per acre up to 5.75 acre-feet * | 59.00 | 61.50
| Excess Water per acre-foot over 5.75 acre-feet | 18.00 | 18.00
Duck Valley Irrigation Project (See Note #2) | Basic per acre | 5.30 | 5.30
Yuma Project, Indian Unit (See Note #3) | Basic per acre up to 5.0 acre-feet | 154.50 | ( + )
| Excess Water per acre-foot over 5.0 acre-feet | 30.00 | ( + )
| Basic per acre up to 5.0 acre-feet (Ranch 5) | 154.50 | ( + )
San Carlos Irrigation Project (Joint Works) (See Note #4) | Basic per acre * | 20.00 | 25.78

| Final 2020 and 2021 Construction Water Rate Schedule: | Final 2020 and 2021 Construction Water Rate Schedule:: Off project construction | Final 2020 and 2021 Construction Water Rate Schedule:: On project construction— gravity water | Final 2020 and 2021 Construction Water Rate Schedule:: On project construction— pump water
| Administrative Fee | $300.00 | $300.00 | $300.00.
| Usage Fee | $250.00 per month | No Fee | $100.00 per acre foot.
| Excess Water Rate † | $5.00 per 1,000 gal | No Charge | No Charge.

Project name | Rate category | Final 2020 rate | Final 2021 rate
San Carlos Irrigation Project (Indian Works) (See Note #5) | Basic per acre * | $86.00 | $97.78
Uintah Irrigation Project | Basic per acre | 23.00 | 23.00
| Minimum Bill | 25.00 | 25.00
Walker River Irrigation Project | Basic per acre | 31.00 | 31.00
* Notes irrigation projects where rates are adjusted.
+ The Bureau of Reclamation (BOR) rate component has not been established. See Note #3.
† The excess water rate applies to all water used in excess of 50,000 gallons in any one month.
Note #1 O&M rates for LeClair and Riverton Valley Irrigation Districts apply to Trust lands that are serviced by each irrigation district. The annual O&M rates are based on budgets submitted by LeClair and Riverton Valley Irrigation Districts, respectively.
Note #2 The annual O&M rate is established by the Shoshone-Paiute Tribes who perform O&M under a self-governance compact.
Note #3 The O&M rate for the Yuma Project, Indian Unit has two components. The first component of the O&M rate is established by the Bureau of Reclamation (BOR), the owner and operator of the Project. BOR's rate, which is based upon the annual budget submitted by BOR, is $151.00 for 2020 but has not been established for 2021. The second component of the O&M rate is established by BIA to cover administrative costs, which includes billing and collections for the Project. The final 2020 and 2021 BIA rate component is $3.50/acre.
Note #4 The Construction Water Rate Schedule identifies fees assessed for use of irrigation water for non-irrigation purposes.
Note #5 The O&M rate for the San Carlos Irrigation Project—Indian Works has three components. The first component is established by the BIA San Carlos Irrigation Project—Indian Works, the owner and operator of the Project; the final 2021 Indian Works rate component is $56.00 per acre. The second component is established by the BIA San Carlos Irrigation Project—Joint Works; the final 2021 Joint Works rate component is $25.78 per acre. The third component is established by the San Carlos Irrigation Project Joint Control Board and is $16.00 per acre for 2021.

Consultation and Coordination With Tribal Governments (Executive Order 13175)

The Department of the Interior strives to strengthen its government-to-government relationship with Indian Tribes through a commitment to consultation with Indian Tribes and recognition of their right to self-governance and Tribal sovereignty. We have evaluated this notice under the Department's consultation policy and under the criteria of Executive Order 13175 and have determined there to be substantial direct effects on federally recognized Tribes because the irrigation projects are located on or associated with Indian reservations. To fulfill its consultation responsibility to Tribes and Tribal organizations, BIA communicates, coordinates, and consults on a continuing basis with these entities on issues of water delivery, water availability, and costs of administration, operation, maintenance, and rehabilitation of projects that concern them. This is accomplished at the individual irrigation project by project, agency, and regional representatives, as appropriate, in accordance with local protocol and procedures. This notice is one component of our overall coordination and consultation process to provide notice to, and request comments from, these entities when we adjust irrigation assessment rates.

Actions Concerning Regulations That Significantly Affect Energy Supply, Distribution, or Use (Executive Order 13211)

The rate adjustments are not a significant energy action under the definition in Executive Order 13211. A Statement of Energy Effects is not required.

Regulatory Planning and Review (Executive Order 12866)

These rate adjustments are not a significant regulatory action and do not need to be reviewed by the Office of Management and Budget under Executive Order 12866.

Regulatory Flexibility Act

These rate adjustments are not a rule for the purposes of the Regulatory Flexibility Act because they establish “a rule of particular applicability relating to rates.” 5 U.S.C. 601(2).

Unfunded Mandates Reform Act of 1995

These rate adjustments do not impose an unfunded mandate on state, local, or Tribal governments in the aggregate, or on the private sector, of more than $130 million per year. They do not have a significant or unique effect on State, local, or Tribal governments or the private sector. Therefore, the Department is not required to prepare a statement containing the information required by the Unfunded Mandates Reform Act (2 U.S.C. 1531 et seq.).

Takings (Executive Order 12630)

These rate adjustments do not effect a taking of private property or otherwise have “takings” implications under Executive Order 12630. The rate adjustments do not deprive the public, State, or local governments of rights or property.

Federalism (Executive Order 13132)

Under the criteria in section 1 of Executive Order 13132, these rate adjustments do not have sufficient federalism implications to warrant the preparation of a federalism summary impact statement because they will not affect the States, the relationship between the national government and the States, or the distribution of power and responsibilities among various levels of government. A federalism summary impact statement is not required.

Civil Justice Reform (Executive Order 12988)

This notice complies with the requirements of Executive Order 12988. Specifically, in issuing this notice, the Department has taken the necessary steps to eliminate drafting errors and ambiguity, minimize potential litigation, and provide a clear legal standard for affected conduct as required by section 3 of Executive Order 12988.

Paperwork Reduction Act of 1995

These rate adjustments do not affect the collections of information which have been approved by the Office of Information and Regulatory Affairs, Office of Management and Budget (OMB), under the Paperwork Reduction Act of 1995. The OMB Control Number is 1076-0141 and expires January 31, 2023.

National Environmental Policy Act

The Department has determined that these rate adjustments do not constitute a major Federal action significantly affecting the quality of the human environment and that no detailed statement is required under the National Environmental Policy Act of 1969, 42 U.S.C. 4321-4370(d)), pursuant to 43 CFR 46.210(i). In addition, the rate adjustments do not present any of the 12 extraordinary circumstances listed at 43 CFR 46.215.

Tara Sweeney,
Assistant Secretary—Indian Affairs.

[FR Doc. 2020-16881 Filed 8-3-20; 8:45 am]

BILLING CODE 4337-15-P